FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

Barthco International, Inc. (NVO & OFF), 5101 S. Broad Street, Philadelphia, PA 19112. Officers: Lars Huebecker, Vice President (Qualifying Individual), Patrick Moebel, President. Application Type: QI Change.

Hua Yang Transportation Co. (NVO), 1450 Glenn Curtiss Street, Carson, CA 90746. Officers: Merlinda V. Tan, COO (Qualifying Individual), Yanzhong Ding, President/Chairperson. Application Type: New NVO License.

Bertschi North America Inc. (NVO), 15811 Heatherdale Drive, Houston, TX 77059. Officers: Eloy Ramos, Director/President/Secretary/Treasurer (Qualifying Individual), Hans J. Bertschi, Director. Application Type: New NVO License.

Cibao Cargo, Inc. (NVO), 1345 Cromwell Avenue, Bronx, NY 10452. Officers: Jose A. Perdomo, President (Qualifying Individual), Jose O. Perdomo, Vice President. Application Type: New NVO License.

Clutch Global Logistics, Inc. (NVO & OFF), 180 Champion Way, Northlake, IL 60164. Officers: David F. Gross, CEO (Qualifying Individual), Lance A. Lucibello, Vice President. Application Type: QI Change.

CMA CGM Logistics USA LLC (NVO & OFF), 1 Meadowlands Plaza, Suite 201, East Rutherford, NJ 07073. Officers: Nicalaos Fafoutis, General Manager (Qualifying Individual), Frank J. Baragona, Director. Application Type: New NVO & OFF License.

Convergent Logistics LLC (NVO & OFF), 13634 Peyton Drive, Dallas, TX 75240. Officer: Patrick Higgins, President (Qualifying Individual). Application Type: New NVO & OFF License.

EMI Freight International, L.L.C. (NVO), 8298 NW 68st Street, Miami, FL 33166. Officers: Omar E. Ortiz, Chief Executive Manager (Qualifying Individual), Adriana M. Olarte, Member/Manager. Application Type: New NVO License.

Euro Cargo Express, Inc. dba Pacific Anchor Line Group (NVO), 154-09 146th Avenue, Jamaica, NY 11434. Officers: Carlo Paravani, President (Qualifying Individual), Barbara Hiebendahl, Secretary. Application Type: Name Change/QI Change.

Gandhi International Shipping, Inc. (NVO & OFF), 2358 W. Devon Avenue, Chicago, IL 60659. Officers: Mohammed A. Gandhi, President (Qualifying Individual), Azim Gandhi, Secretary. Application Type: Add NVO Serice.

King Solutions, Inc. (NVO & OFF), 11011 Holly Lane N., Dayton, MN 55369. Officers: William S. Panzarella, VP of International Development (Qualifying Individual), Michael Patterson, CEO/CFO/Secretary. Application Type: New NVO & OFF License.

NIT Logistics, Inc. (NVO), 241 Hudson Street, Hackensack, NJ 07601, Officers: Goksin Sensoz, Corporate Secretary (Qualifying Individual), Zeki Sensoz, President/Treasurer. Application Type: New NVO License.

Ocean Cargo Transportation Inc. (NVO), 3144 E. Garvey Avenue South, West Covina, CA 91791. Officer: Catalina Ricard, C.E.O./Secretary/C.F.O. (Qualifying Individual). Application Type: New NVO License.

Prioity Import-Export Services, Inc. (NVO), 11222 La Cienega Blvd., Suite 400, Inglewood, CA 90304. Officer: Dennis Swing, President/Secretary/Treasurer (Qualifying Individual). Application Type: New NVO License.

Ship International Inc (NVO & OFF), 1231 E. 230th Street, Carson, CA 90745. Officers: Rigoberto S. Zavaleta, VP of Operations/Secretary (Qualifying Individual), Patrica A. Whaley, President/CEO. Application Type: New NVO & OFF License.

Victory Maritime Services USA (NVO & OFF), 425 West Main Street, Alhambra, CA 91801. Officers: Mishell O. Sanchez, Vice President (Qualifying Individual), Xu Chen, President/Secretary. Application Type: QI Change.

Dated: April 16, 2012.
Rachel E. Dickon,
Assistant Secretary.

[FR Doc. 2012-9508 Filed 4-19-12; 8:45 am]

BILLING CODE 6730-01-P